GOVERNMENT ACCOUNTABILITY OFFICE

Health Information Technology Policy Committee Openings

AGENCY: Government Accountability Office (GAO).

ACTION: Notice on letters of nomination to fill openings.

SUMMARY: The American Recovery and Reinvestment Act of 2009 (ARRA) established the Health Information Technology Policy Committee (Health IT Policy Committee) and gave the Comptroller General responsibility for appointing 13 of its 20 members. ARRA requires that: One member should have expertise with improving the health of vulnerable populations and one member should represent information technology vendors. Due to the completion of terms in April 2014 by committee members filing these requirements GAO is accepting nominations of individuals to fill these positions. In addition, ARRA requires that three members should be advocates for patients or consumers and one committee member in this category will be completing their term in April 2014. GAO is also accepting nominations of individuals to fill this position. For these appointments I am announcing the following: Letters of nomination and resumes should be submitted between January 2 and 24, 2014 to ensure adequate opportunity for review and consideration of nominees.

ADDRESSES: GAO: HITCommittee@gao.gov.

GAO: 441 G Street NW., Washington, DC 20548.

FOR FURTHER INFORMATION CONTACT: GAO: Office of Public Affairs, (202) 512-4800. 42 U.S.C. 300jj-12.

Gene L. Dodaro,
Comptroller General of the United States.

[FR Doc. 2013-31482 Filed 1-9-14; 8:45 am]

BILLING CODE 1610-02-M